DEPARTMENT OF THE TREASURY

Submission for OMB Review; Comment Request

May 20, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 26, 2008, to be assured of consideration.

Financial Management Service (FMS)

OMB Number: 1510-0004.

Type of Review: Extension.

Title: Schedule of Excess Risks.

Form: FMS-285-A.

Description: Listing of Excess Risks written or assumed by Treasury Certified Companies for compliance with Treasury Regulations to assist in determination of solvency of Certified companies for the benefit of writing Federal surety bonds.

Respondents: Businesses or other for-profit institutions.

Estimated Total Burden Hours: 5,780 hours.

OMB Number: 1510-0047.

Type of Review: Extension.

Title: List of Data (A) and List of Data (B).

Form: TFS-2211.

Description: Information from insurance companies to provide Treasury a basis to determine acceptability of companies applying for a Certificate of Authority to write or reinsure Federal surety bonds or as an Admitted Reinsurer (not on excess risks to U.S.).

Respondents: Businesses or other for-profit institutions.

Estimated Total Burden Hours: 540 hours.

OMB Number: 1510-0061.

Type of Review: Extension.

Title: CMIA Annual Report and Interest Calculation Cost Claims.

Form: FMS-285-A.

Description: Pub. L. 101-453 requires that States and Territories must report interest liabilities for major Federal assistance programs annually. States and Territories may report interest calculation cost claims for compensation of administrative costs.

Respondents: State, Local, or Tribal Governments.

Estimated Total Burden Hours: 22,036 hours.

Clearance Officer: Wesley Powe, (202) 874-7662, Financial Management Service, Room 135, 3700 East West Highway, Hyattsville, MD 20782.

OMB Reviewer: Alexander T. Hunt, (202) 395-7316, Office of Management and Budget, Room 10235, New Executive Office Building, Washington, DC 20503.

Robert B. Dahl,
Treasury PRA Clearance Officer.

[FR Doc. E8-11681 Filed 5-23-08; 8:45 am]

BILLING CODE 4810-35-P